Title 3—

The President

Memorandum of June 6, 2011

Designation of Officers of the Overseas Private Investment Corporation To Act as President of the Overseas Private Investment Corporation

Memorandum for the President of the Overseas Private Investment Corporation

By the authority vested in me as President by the Constitution and the laws of the United States of America, including the Federal Vacancies Reform Act of 1998, 5 U.S.C. 3345 et seq. (the “Act”), it is hereby ordered that:

Section 1. Order of Succession. Subject to the provisions of section 2 of this memorandum, and to the limitations set forth in the Act, the following officers of the Overseas Private Investment Corporation (OPIC), in the order listed, shall act as and perform the functions and duties of the office of the President of OPIC during any period in which the President of OPIC has died, resigned, or otherwise become unable to perform the functions and duties of the office of the President of OPIC:

(a) Executive Vice President;

(b) Vice President and General Counsel;

(c) Vice President and Chief Financial Officer;

(d) Chief of Staff;

(e) Vice President, Investment Policy;

(f) Vice President, External Affairs;

(g) Vice President, Investment Funds;

(h) Vice President, Insurance;

(i) Vice President, Structured Finance; and

(j) Vice President, Small and Medium Enterprise Finance.

Sec. 2. Exceptions. (a) No individual who is serving in an office listed in section 1(a)-(j) of this memorandum in an acting capacity shall, by virtue of so serving, act as President of OPIC pursuant to this memorandum.

(b) No individual who is serving in an office listed in section 1 of this memorandum shall act as President of OPIC unless that individual is otherwise eligible to so serve under the Act.

(c) Notwithstanding the provisions of this memorandum, the President retains discretion, to the extent permitted by law, to depart from this memorandum in designating an acting President of OPIC.

Sec. 3. The Presidential Memorandum of January 16, 2009 (Designation of Officers to Act as President of the Overseas Private Investment Corporation), is hereby revoked.

Sec. 4. This memorandum is not intended to, and does not, create any right or benefit, substantive or procedural, enforceable at law or in equity by any party against the United States, its departments, agencies, or entities, its officers, employees, or agents, or any other person.

Sec. 5. You are authorized and directed to publish this memorandum in the Federal Register.

THE WHITE HOUSE,

Washington, June 6, 2011

[FR Doc. 2011-14474

Filed 6-8-11; 8:45 am]

Billing code 3210-01-P